NATIONAL FOUNDATION ON THE ARTS AND HUMANITIES

National Endowment for the Humanities

45 CFR Part 1171

Change of Address

AGENCY: National Endowment for the Humanities, National Foundation on the Arts and Humanities.

ACTION: Final rule; technical amendments.

SUMMARY: The National Endowment for the Humanities (NEH) is amending its Freedom of Information Act (FOIA) regulations to reflect changes to its address as a result of an office move. These amendments are nonsubstantive, editorial in nature, and are intended to improve the accuracy of the regulations of NEH.

DATES: Effective July 16, 2015.

FOR FURTHER INFORMATION CONTACT: Lisette Voyatzis, Deputy General Counsel, National Endowment for the Humanities, 400 7th Street SW., Room 4060, Washington, DC 20506.

SUPPLEMENTARY INFORMATION: NEH is making technical amendments to its FOIA regulations published at 45 CFR part 1171 to correct its address as a result of an office move. The former street address was: 1100 Pennsylvania Ave. NW., Washington, DC 20506. The new street address is: 400 7th Street SW., Washington, DC 20506. The amendments also correct all room numbers affected by the office move. All other contact information remains the same.

Publication of this document constitutes final action of these changes under the Administrative Procedure Act (5 U.S.C. 553). NEH has determined that notice and public comment are unnecessary in this case because these amendments are nonsubstantive and editorial in nature.

List of Subjects in 45 CFR Part 1171

Administrative practice and procedure, Freedom of Information.

Therefore, 45 CFR 1171 is amended as follows:

PART 1171—PUBLIC ACCESS TO NEH RECORDS UNDER THE FREEDOM OF INFORMATION ACT

1. The authority citation for part 1171 continues to read as follows:

Authority: 5 U.S.C. 552, 31 U.S.C. 3717, E.O. 12600.

§ 1171.5 [Amended]

2. Section 1171.5 is amended in paragraphs (c)(1) by removing “1100 Pennsylvania Ave. NW., Room 529, Washington, DC, 20506” and adding in its place “400 7th Street SW., Room 4060, Washington, DC, 20506”, and in paragraph (c)(2) by removing “1100 Pennsylvania Ave. NW., Room 419, Washington, DC, 20506” and adding in its place “400 7th Street SW., Room 2200, Washington, DC 20506”.

§ 1171.10 [Amended]

3. Section 1171.10 is amended in paragraph (a) by removing “1100 Pennsylvania Ave. NW., Room 503, Washington, DC, 20506” and adding in its place “400 7th Street SW., Room 4053, Washington, DC, 20506”, and by removing “1100 Pennsylvania Ave. NW., Room 419, Washington, DC, 20506” and adding in its place “400 7th Street SW., Room 2200, Washington, DC, 20506”.

Dated: July 1, 2015.
Michael McDonald,
General Counsel.

[FR Doc. 2015-16844 Filed 7-15-15; 8:45 am]

BILLING CODE 7536-01-P